DEPARTMENT OF THE INTERIOR

Bureau of Land Management

[UTU 78566]

Notice of Proposed Withdrawal and Opportunity for Public Meeting; Utah

AGENCY: Bureau of Land Management, Interior.

ACTION: Notice.

SUMMARY: The Bureau of Reclamation proposes to withdraw 170 acres of National Forest System lands, for a period of 50 years, for protection, operation and maintenance of the Washington and Lost Lake Dams in the Upper Provo River component of the Bonneville Unit of the Central Utah Project. This notice segregates the lands for up to 2 years from location and entry under the United States mining laws. The lands will remain open to all other uses which may be made of National Forest System lands.

DATES: Comments and requests for a meeting must be received on or before May 1, 2000.

ADDRESSES: Comments and meeting requests should be sent to the Bureau of Reclamation, Area Manager, Provo Area Office, 302 East 1860 South, Provo, Utah 84606-7317.

FOR FURTHER INFORMATION CONTACT: David Krueger, Provo Area Office, 801-379-1083.

SUPPLEMENTARY INFORMATION: On December 1, 1999, a petition was approved allowing the Bureau of Reclamation to file an application to withdraw the following described National Forest System lands from location and entry under the United States mining laws, subject to valid existing rights:

Salt Lake Meridian

Wasatch National Forest

T. 2 S., R. 9 E.,

Sec. 4, SW¼NW¼SW¼ and NW¼SW¼SW¼;

Sec. 5, SE¼SW¼NE¼, SW¼SE¼NE¼, W½NE¼SE¼, SE¼NE¼SE¼, E½NW¼SE¼, and N½SE¼SE¼;

Sec. 6, SW¼NE¼ and N½NW¼SE¼.

The areas described aggregate 170 acres in Summit County.

All persons who wish to submit comments, suggestions, or objections in connection with the proposed withdrawal may present their views in writing, by the date specified above, to the Bureau of Reclamation, Provo Area Office.

Notice is hereby given that an opportunity for a public meeting is afforded in connection with the proposed withdrawal. All interested persons who desire a public meeting for the purpose of being heard on the proposed withdrawal must submit a written request to the Bureau of Reclamation, Provo Area Office, within 90 days from the date of publication of this notice. Upon determination by the authorized officer that a public meeting will be held, a notice of the time and place will be published in the Federal Register at least 30 days before the scheduled date of the meeting.

The application will be processed in accordance with the regulations set forth in 43 CFR 2300.

For a period of 2 years from the date of publication of this notice in the Federal Register, the lands will be segregated as specified above unless the application is denied or canceled or the withdrawal is approved prior to that date.

Dated: January 21, 2000.
Roger Zortman,
Deputy State Director, Division of Operations.

[FR Doc. 00-1920 Filed 1-28-00; 8:45 am]

BILLING CODE 4310-94-P